DEPARTMENT OF AGRICULTURE

Animal and Plant Health Inspection Service

[Docket No. APHIS-2023-0043]

Notice of Request for Extension of Approval of an Information Collection; Volunteer Service Agreements and Volunteer Service Time and Attendance Record

AGENCY: Animal and Plant Health Inspection Service, USDA.

ACTION: Extension of approval of an information collection; comment request.

SUMMARY: In accordance with the Paperwork Reduction Act of 1995, this notice announces the Animal and Plant Health Inspection Service's intention to request an extension of approval of an information collection associated with volunteer service agreements and volunteer service time and attendance record.

DATES: We will consider all comments that we receive on or before July 17, 2023.

ADDRESSES: You may submit comments by either of the following methods:

• Federal eRulemaking Portal: Go to www.regulations.gov. Enter APHIS-2023-0043 in the search field. Select the Documents tab, then select the Comment button in the list of documents.

• Postal Mail/Commercial Delivery: Send your comment to Docket No. APHIS-2023-0043, Regulatory Analysis and Development, PPD, APHIS, Station 3A-03.8, 4700 River Road, Unit 118, Riverdale, MD 20737-1238.

Supporting documents and any comments we receive on this docket may be viewed at regulations.gov or in our reading room, which is located in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on volunteer service agreements and volunteer service time and attendance record, contact Ms. Martha Gravagna, Human Resources Specialist, HR Policy, HRD, MRPBS, APHIS, 250 Marquette Avenue, Suite 410, Minneapolis, MN 55401; (612) 336-3355. For detailed information on the information collection process, contact Mr. Joseph Moxey, APHIS' Paperwork Reduction Act Coordinator, at (301) 851-2533; joseph.moxey@usda.gov.

SUPPLEMENTARY INFORMATION:

Title: Volunteer Service Agreements and Volunteer Service Time and Attendance Record.

OMB Control Number: 0579-0477.

Type of Request: Extension of approval of an information collection.

Abstract: Section 1526 of the Food and Agricultural Act of 1981 (7 U.S.C. 2272) permits the Secretary of Agriculture to establish a program to use volunteers to carry out U.S. Department of Agriculture (USDA) programs. Departmental Regulation No. 4230-001, Volunteer Programs, provides the guidelines USDA agencies must use for acceptance of volunteers and sets a requirement for agencies to publish their guidelines. Office of Personnel Management (OPM) regulations in 5 CFR part 308 provide agencies with the authority to establish programs designed to provide educationally related volunteer assignments for students in non-pay status.

The Marketing and Regulatory Programs (MRP) mission area of USDA uses several information collection activities to assist MRP program officials, administrative personnel, and USDA Human Resources offices in determining a volunteer's eligibility and suitability for volunteer service. The information is necessary to facilitate establishment of guidelines for acceptance of volunteer services under the above authorities and regulations, determine an individual's eligibility and suitability to serve as a volunteer in MRP, and comply with OPM regulations requiring documentation of volunteer service and maintenance of records.

Information is collected using two information collection requests, one for students and one for non-student volunteers, that ask for personal data, citizenship or immigration status, and student status (if applicable). A third collection request is used to document the dates on which volunteer service from all volunteers is rendered, the location, and the amount of time the volunteer spent performing those duties.

We are asking the Office of Management and Budget (OMB) to approve our use of these information collection activities for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 0.59 hours per response.

Respondents: Individuals engaged in activities for which they are not paid, except for authorized expenses associated with performance of volunteer activities.

Estimated annual number of respondents: 86.

Estimated annual number of responses per respondent: 3.

Estimated annual number of responses: 256.

Estimated total annual burden on respondents: 151 hours. (Due to averaging, the total annual burden hours may not equal the product of the annual number of responses multiplied by the reporting burden per response.)

All responses to this notice will be summarized and included in the request for OMB approval. All comments will also become a matter of public record.

Done in Washington, DC, this 11th day of May 2023.
Michael Watson,
Acting Administrator, Animal and Plant Health Inspection Service.

[FR Doc. 2023-10486 Filed 5-16-23; 8:45 am]

BILLING CODE 3410-34-P